DEPARTMENT OF HOMELAND SECURITY

Coast Guard

[USCG-2004-18626]

Towing Safety Advisory Committee

AGENCY: Coast Guard, DHS.

ACTION: Notice of meetings.

SUMMARY: The STCW Implementation and the Designated Examiner Record-Keeping Working Groups of the Towing Safety Advisory Committee (TSAC) will meet to discuss matters relating to these specific issues of towing safety. The meetings will be open to the public.

DATES: The STCW Working Group will meet on Tuesday, July 27, 2004, from 8 a.m. to 2 p.m. The Record-Keeping Working Group will meet on Wednesday, July 28, 2004 from 8:30 a.m. to 1 p.m. The meetings may close early if all business is finished. Written material and requests to make oral presentations should reach the Coast Guard on or before July 23, 2004. Requests to have a copy of your material distributed to each member of the Working Group should reach the Coast Guard on or before July 21, 2004.

ADDRESSES: The Working Groups will meet in the 7th Floor All-Hands Conference Room (#725), National Pollution Funds Center, 4200 Wilson Boulevard, Arlington, VA 22203. Please bring a government-issued ID with photo (e.g., driver's license). Send written material and requests to make oral presentations to Mr. Gerald Miante, Commandant (G-MSO-1), U.S. Coast Guard Headquarters, 2100 Second Street SW., Washington, DC 20593-0001. This notice and related documents are available on the Internet at http://dms.dot.gov under the docket number USCG-2004-18626.

FOR FURTHER INFORMATION CONTACT: Mr. Gerald Miante, Assistant Executive Director of TSAC, telephone 202-267-0214, fax 202-267-4570, or e-mail gmiante@comdt.uscg.mil.

SUPPLEMENTARY INFORMATION: Notice of these meetings is given under the Federal Advisory Committee Act, 5 U.S.C. App. 2 (Pub. L. 92-463, 86 Stat. 770, as amended).

Agenda of Working Group Meetings

The agenda for the STCW Implementation Working Group tentatively includes the following items:

(1) Develop ways to provide training that will be accessible to the working towing vessel mariner and meet Coast Guard standards for course approval; consider the feasibility of distance learning, computer based training, and a modular approach to training and testing.

(2) Identify towing industry concerns about current STCW implementation.

The agenda for the Designated Examiner Working Group tentatively includes the following items:

(1) Consider the benefits and disadvantages of requiring Coast Guard approved Designated Examiners to maintain records of their assessment of towing vessel license candidates.

(2) Draft recommendations on the scope of records to be maintained, including the type of records to be kept, how long records should be maintained, and whether records should be submitted to the Coast Guard.

Procedural

The meetings are open to the public. Please note that the meetings may close early if all business is finished. At the Chair's discretion, members of the public may make oral presentations during the meeting. If you would like to make an oral presentation at the meeting, please notify the Assistant Executive Director (as provided above in for further information contact) no later than July 23, 2004. Written material for distribution at the meeting should reach the Coast Guard no later than July 21, 2004.

Information on Services for Individuals With Disabilities

For information on facilities or services for individuals with disabilities or to request special assistance at the meeting, contact Mr. Miante at the number listed in FOR FURTHER INFORMATION CONTACT as soon as possible.

Dated: July 14, 2004.
Joseph J. Angelo,
Director of Standards, Marine Safety, Security and Environmental Protection.

[FR Doc. 04-16656 Filed 7-21-04; 8:45 am]

BILLING CODE 4910-15-P